INTERNATIONAL TRADE COMMISSION

[Investigation Nos. 701-TA-586 and 731-TA-1384 (Final)]

Stainless Steel Flanges From India

Determinations

On the basis of the record ¹ developed in the subject investigations, the United States International Trade Commission (“Commission”) determines, pursuant to the Tariff Act of 1930 (“the Act”), that an industry in the United States is materially injured by reason of imports of stainless steel flanges from India that have been found by the U.S. Department of Commerce (“Commerce”) to be sold in the United States at less than fair value (“LTFV”), and to be subsidized by the government of India.²

¹ The record is defined in sec. 207.2(f) of the Commission's Rules of Practice and Procedure (19 CFR 207.2(f)).

² The Commission also finds that imports subject to Commerce's affirmative critical circumstances determinations are not likely to undermine seriously the remedial effect of the antidumping and countervailing duty orders on stainless steel flanges from India.

Background

The Commission instituted these investigations effective August 16, 2017, following receipt of a petition filed with the Commission and Commerce by the Coalition of American Flange Producers on behalf of itself and its individual members, Core Pipe Products, Inc., Carol Stream, Illinois, and Maass Flange Corporation, Houston, Texas. Effective January 23, 2018, the Commission established a general schedule for the conduct of the final phase of its investigations on stainless steel flanges, following notification of preliminary determinations by Commerce ³ that imports of stainless steel flanges from China and India were being subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of February 7, 2018 (83 FR 5459). The hearing was held in Washington, DC, on April 10, 2018, and all persons who requested the opportunity were permitted to appear in person or by counsel. The Commission subsequently issued its final affirmative determinations regarding subsidized imports of stainless steel flanges from China on May 29, 2018 (83 FR 25714, June 4, 2018) and regarding dumped imports of stainless steel flanges from China on July 25, 2018 (83 FR 36622, July 30, 2018). Following notification of final determinations by Commerce that imports of stainless steel flanges from India were being sold at LTFV within the meaning of section 735(a) of the Act (19 U.S.C. 1673d(a)),⁴ and subsidized by the government of India within the meaning of section 705(a) of the Act (19 U.S.C. 1671d(a)),⁵ notice of the supplemental scheduling of the final phase of the Commission's antidumping and countervailing duty investigations with respect to India was given by posting copies of the notice in the Office of the Secretary, U.S. International Trade Commission, Washington, DC, and by publishing the notice in the Federal Register of September 6, 2018 (83 FR 45278).

³ Countervailing Duty Investigation of Stainless Steel Flanges from the People's Republic of China: Preliminary Affirmative Determination, 83 FR 3124, January 23, 2018 and Stainless Steel Flanges from India: Preliminary Affirmative Countervailing Duty Determination, Preliminary Affirmative and Alignment of Final Determination With Final Antidumping Duty Determination, 83 FR 3118, January 23, 2018.

⁴ Stainless Steel Flanges from India: Final Affirmative Determination of Sales at Less than Fair Value and Final Affirmative Critical Circumstance Determination, 83 FR 40745, August 16, 2018.

⁵ Stainless Steel Flanges from India: Final Affirmative Countervailing Duty Determination and Final Affirmative Determination of Critical Circumstances, 83 FR 40748, August 16, 2018.

The Commission made these determinations pursuant to sections 705(b) and 735(b) of the Act (19 U.S.C. 1671d(b)) and 19 U.S.C. 1673d(b)). It completed and filed its determinations in these investigations on September 28, 2018. The views of the Commission are contained in USITC Publication 4828 (September 2018), entitled Stainless Steel Flanges from India: Investigation Nos. 701-TA-586 and 731-TA-1384 (Final).

By order of the Commission.
Issued: October 1, 2018.
Lisa Barton,
Secretary to the Commission.

[FR Doc. 2018-21636 Filed 10-3-18; 8:45 am]

BILLING CODE 7020-02-P